DEPARTMENT OF LABOR

Occupational Safety and Health Administration

29 CFR Part 1926

[Docket No. OSHA-2012-0025]

RIN 1218-AC75

Cranes and Derricks in Construction: Revising the Exemption for Digger Derricks

AGENCY: Occupational Safety and Health Administration (OSHA), Labor.

ACTION: Withdrawal of direct final rule.

SUMMARY: OSHA published a direct final rule and a companion notice of proposed rulemaking on November 9, 2012, to broaden the exemption for digger derricks in its construction standard for cranes and derricks. OSHA received a significant adverse comment on the direct final rule and is, therefore, withdrawing the direct final rule. OSHA will issue a final rule at a later date based on the notice of proposed rulemaking.

DATES: OSHA published the direct final rule for revising the exemption for digger derricks on November 9, 2012 (77 FR 67270), and is withdrawing that direct final rule as of February 7, 2013.

FOR FURTHER INFORMATION CONTACT:

General information and press inquiries: Mr. Frank Meilinger, Director, OSHA Office of Communications, Room N-3647, U.S. Department of Labor, 200 Constitution Avenue NW., Washington, DC 20210; telephone: (202) 693-1999.

Technical information: Mr. Garvin Branch, Directorate of Construction, Room N-3468, OSHA, U.S. Department of Labor, 200 Constitution Avenue NW., Washington, DC 20210; telephone: (202) 693-2020; fax: (202) 693-1689.

SUPPLEMENTARY INFORMATION: On November 9, 2012, OSHA published a direct final rule (77 FR 67270) and a companion notice of proposed rulemaking (77 FR 67313) to broaden the exemption for digger derricks in its construction standard for cranes and derricks. In those documents, OSHA stated that if it received a significant adverse comment, the Agency would “publish a timely withdrawal of this direct final rule” and determine whether to proceed with the rulemaking on the basis of the proposed rule. OSHA received one significant adverse comment on the direct final rule (Docket ID OSHA-2012-0025-0008) and is, therefore, withdrawing the direct final rule. The Agency will treat the comment on the direct final rule as a comment on the proposed rule and publish a final rule at a later date.

Authority and Signature

David Michaels, Ph.D., MPH, Assistant Secretary of Labor for Occupational Safety and Health, U.S. Department of Labor, 200 Constitution Avenue NW., Washington, DC 20210, authorized the withdrawal of the direct final rule. OSHA is withdrawing the direct final rule pursuant to 29 U.S.C. 653, 655, and 657, 40 U.S.C. 3701 et seq., 5 U.S.C. 553, Secretary of Labor's Order 1-2012 (77 FR 3912), and 29 CFR part 1911.

Signed at Washington, DC on February 1, 2013.
David Michaels,
Assistant Secretary of Labor for Occupational Safety and Health.

[FR Doc. 2013-02777 Filed 2-6-13; 8:45 am]

BILLING CODE 4510-26-P